DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the control of the Thomas Burke Memorial Washington State Museum (Burke Museum), University of Washington, Seattle, WA. The human remains were removed from Judd Creek on Vashon Island, King County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum and University of Washington professional staff in consultation with representatives of the Muckleshoot Indian Tribe of the Muckleshoot Reservation, Washington and Puyallup Tribe of the Puyallup Reservation, Washington.

In 1951, human remains representing a minimum of one individual were removed from Vashon Island near Judd Creek in King County, WA, by landowner Vernon Lamoreux. The human remains were donated to the Burke Museum in 1951, but were not formally accessioned until 1965 (Burke Accn. #1965-78). No known individual was identified. No associated funerary objects are present.

Based on geographic location and after further review by a University of Washington physical anthropologist, the human remains have been determined to be Native American. Although the cranium is highly fragmented, morphological evidence such as the presence of wormian bones and cranial deformity typical of Native American remains is evident. Vashon Island is within the usual and accustomed territory of the Puyallup Tribe of the Puyallup Reservation, Washington. The S'Homamish occupied Vashon Island during the mid 1800s. In 1854, George Gibbs identified the Puyallupahmish, T'Kawkamish, and S'Homamish as being from the Puyallup River and Vashon Island area. Under the terms of the Treaty of Medicine Creek, the S'Homamish people were removed to the Puyallup Reservation. Descendants of the S'Homamish are members of the Puyallup Tribe of the Puyallup Reservation, Washington.

Officials of the Burke Museum have determined that, pursuant to 25 U.S.C. 3001 (9-10), the human remains described above represent the physical remains of one individual of Native American ancestry. Officials of the Burke Museum also have determined that, pursuant to 25 U.S.C. 3001 (2), there is a relationship of shared group identity that can be reasonably traced between the Native American human remains and the Puyallup Tribe of the Puyallup Reservation, Washington.

Representatives of any other Indian tribe that believes itself to be culturally affiliated with the human remains should contact Dr. Peter Lape, Burke Museum, University of Washington, Box 353010, Seattle, WA 98195-3010], telephone (206) 685-2282, before September 18, 2006. Repatriation of the human remains to the Puyallup Tribe of the Puyallup Reservation, Washington may proceed after that date if no additional claimants come forward.

The Burke Museum is responsible for notifying the Muckleshoot Indian Tribe of the Muckleshoot Reservation, Washington, and Puyallup Tribe of the Puyallup Reservation, Washington that this notice has been published.

Dated: July 24, 2006
Sherry Hutt,
Manager, National NAGPRA Program.

[FR Doc. E6-13603 Filed 8-16-06; 8:45 am]

BILLING CODE 4312-50-S